DEPARTMENT OF HEALTH AND HUMAN SERVICES

Administration for Children and Families

Office of Refugee Resettlement; Division of Community Resettlement; Supplement to Community Refugee and Immigration Services

AGENCY: Office of Refugee Resettlement, Division of Community Resettlement, Administration for Children And Families, HHS.

ACTION: Program expansion supplement.

SUMMARY: Notice is hereby given that the Office of Refugee Resettlement, Division of Community Resettlement, will award supplemental funds without competition to Community Refugee and Immigration Services (CRIS). This supplement is being awarded for a project that will deliver comprehensive services to meet the housing, employment and case management needs of the Somali Bantu.

The arrival of more than 200 Somali Bantu refugee secondary migrants into Columbus, Ohio, has severely impacted CRIS' ability to provide employment and other services as well as the capacity of the local homeless shelter system in the community. This supplement will provide assistance with the needs of these refugees to ensure that they have adequate housing and other services to assist in their successful resettlement into this community.

The grantee, Community Refugee and Immigration Services, is the Ohio affiliate of Church World Service and is engaged in the primary resettlement of newly arriving refugees in Franklin County.

These supplemental funds will support 3 months of assistance at a cost of $116,133 in Federal support.

FOR FURTHER INFORMATION CONTACT: Sue Benjamin, Office of Refugee Resettlement, Division of Community Resettlement, 370 L'Enfant Promenade, SW., Washington, DC 20447, Phone: 202-401-4851.

Dated: July 14, 2006.
Martha E. Newton,
Director, Office of Refugee Resettlement.

[FR Doc. E6-11578 Filed 7-20-06; 8:45 am]

BILLING CODE 4184-01-P